DEPARTMENT OF HEALTH AND HUMAN SERVICES

Health Resources and Services Administration

National Center for Family/Professional Partnerships Cooperative Agreement

AGENCY: Health Resources and Services Administration (HRSA), Department of Health and Human Services (HHS).

ACTION: Notice of Single-Case Deviation from Competition Requirement for Program Expansion for the National Center for Family/Professional Partnerships Cooperative Agreement at Family Voices, Grant Number U40MC00149.

SUMMARY: HRSA announces its intent to award a program expansion supplement in the amount of $118,700 for the National Center for Family/Professional Partnerships (NCFPP) cooperative agreement. The purpose of the NCFPP cooperative agreement, as stated in the funding opportunity announcement, is to improve the health delivery system and quality of life for children (and youth) with special health care needs (CSHCN) and their families. Strategies may include: (1) Family-centered care, (2) cultural and linguistic competence, and (3) shared decision-making for families of CSHCN at all levels of decision-making (individual, peer, community, etc.). Family/Professional Partnership program activities are primarily carried out through federal leadership strategies, the NCFPP cooperative agreement and state implementation grants in the form of Family-to-Family Health Information Centers. The purpose of this notice is to award supplemental funds to coordinate among leadership trainings for families partnering on state and national level system and service improvements by Family Voices, the cooperative agreement awardee who serves as the NCFPP, during the budget period of 6/1/2015- 5/31/2016.

SUPPLEMENTARY INFORMATION:

Intended Recipient of the Award: Family Voices, Inc.

Amount of the Non-Competitive Award: $118,700.

Period of Supplemental Funding: 6/1/2015-5/31/2016.

CFDA Number: 93.110.

Authority: Social Security Act, Title V, Section 501(a)(1)(D), (42 U.S.C. 701(a)(1)(D)).

Justification

The Institute of Medicine Report Crossing the Quality Chasm: A New Health System for the 21st Century established shared decision-making and patient/family centered care as key elements of a quality health care system. National quality indicators of family/professional partnership, shared-decision-making, and patient/family-centered care show that children (and youth) with special health care needs (CSHCN) benefit from family/patient-centered care by improved transition from pediatric to adult health care systems, fewer unmet needs and fewer problems accessing needed referrals. Several MCHB programs rely on families as key partners in the improvement of overall systems and services, based on their personal experiences and their work with other families. There is a need for coordination among leadership trainings, including ongoing mentoring and technical assistance, for families partnering on state and national level system and service improvements. Meeting these needs would support a sustainable approach to leadership development that can be maintained by both individuals and organizations, linking together key MCHB investments by supporting State Title V agencies.

The purpose of the NCFPP cooperative agreement, as stated in the funding opportunity announcement, is to improve the health delivery system and quality of life for CSHCN and their families. Strategies may include: (1) Family-centered care, (2) cultural and linguistic competence, and (3) shared decision-making for families of CSHCN at all levels of decision-making (individual, peer, community, etc.). Family/Professional Partnership program activities are primarily carried out through federal leadership strategies, the NCFPP cooperative agreement and state implementation grants in the form of Family-to-Family Health Information Centers. In 2013, following objective review of its application, HRSA awarded Family Voices cooperative agreement funding for the NCFPP. If approved, this would be the first project expansion supplement for this project.

For over two decades Family Voices has brought the voice of families of CSHCN to the healthcare arena and demonstrated the value of family perspectives in shaping healthcare systems and services to maximize outcomes for families and their children. Its infrastructure is based on a network of family-led organizations at the national, state, and local levels including the Family-to-Family Health Information Centers and Family Voices State Affiliate Organizations. It facilitates the work of a community of family leaders through peer mentoring, training, and technical assistance. It partners with key MCHB programs and stakeholders including State Title V agencies.

Results were recently released from a survey of state Title V organizations' progress in engaging families and consumers. From this information, Family Voices recognized a need for ongoing development of a continually renewed pipeline of family leaders from diverse racial and cultural communities and from populations served across all MCHB programs. Thus, they submitted a proposal requesting to supplement the NCFPP cooperative agreement with activities to meet this need.

The proposed project aligns with NCFPP's current project plan in its efforts to increase the capacity of families, Title V and other providers to strengthen the primary care workforce through family/professional partnership learning opportunities (Goal 2). Family Voices, working with MCHB, would coordinate with other MCHB-funded initiatives to identify needs and develop a framework for an evidence-based/informed family leadership training aimed at supporting family leaders participating at state and national levels. To support this primary activity, it would also develop an inventory of current resources related to family leadership development, create a National Family and Youth Leadership Team, and provide technical support and assistance to family leaders to ensure they have the ongoing capacity to participate in community, state, and national systems change.

FOR FURTHER INFORMATION CONTACT: LaQuanta Person Smalley, MPH, Division of Services for Children with Special Health Needs, Maternal and Child Health Bureau, Health Resources and Services Administration, 5600 Fishers Lane, Room 13-103, Rockville, Maryland 20857; lsmalley@hrsa.gov.

Grantee/Organization name | Grant No. | State | FY 2015 authorized funding level | FY 2015 estimated supplemental funding
Family Voices, Inc | U40MC00149 | NM | $475,000 | $118,700

Dated: August 27, 2015.
James Macrae,
Acting Administrator.

[FR Doc. 2015-21885 Filed 9-2-15; 8:45 am]

BILLING CODE 4165-15-P